NATIONAL SCIENCE FOUNDATION

Notice of Intent To Seek Approval To Renew an Information Collection

AGENCY: National Science Foundation.

ACTION: Notice and request for comments.

SUMMARY: The National Science Foundation (NSF) is announcing plans to request approval for the collection of research and development data through the Nonprofit Research Activities survey. In accordance with the requirement of the Paperwork Reduction Act of 1995, we are providing opportunity for public comment on this action. After obtaining and considering public comment, NSF will prepare the submission requesting that OMB approve clearance of this collection for no longer than 3 years.

Comments: Comments are invited on (a) whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

DATES: Written comments on this notice must be received by July 3, 2017 to be assured of consideration. Comments received after that date will be considered to the extent practicable.

FOR ADDITIONAL INFORMATION, CONACT: Suzanne H. Plimpton, Reports Clearance Officer, National Science Foundation, 4201 Wilson Boulevard, Suite 1265, Arlington, Virginia 22230; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Title of Collection: Nonprofit Research Activities Survey.

OMB Approval Number: 3145-0240.

Expiration Date of Current Approval: July 31, 2019.

Type of Request: Intent to renew an information collection.

Abstract:The new Nonprofit Research Activities (NPRA) survey represents one facet of the R&D measurement component of the NSF's National Center for Science and Engineering Statistics (NCSES) statistical program authorized by the America COMPETES Reauthorization Act of 2010 § 505, codified in the National Science Foundation Act of 1950 (NSF Act), as amended, at 42 U.S.C. 1862. Under paragraph “b”, NCSES is directed to

“(1) collect, acquire, analyze, report, and disseminate statistical data related to the science and engineering enterprise in the U.S. and other nations that is relevant and useful to practitioners, researchers, policymakers, and the public, including statistical data on:

(A) Research and development trends;

(B) the science and engineering workforce;

(C) U.S. competitiveness in science, engineering, technology, and research and development . . .”

The primary objective of the new survey is to fill data gaps in the National Patterns of R&D Resources in such a way that it is (a) compatible with data collected on the business, government, and higher education sectors of the U.S. economy and (b) appropriate for international comparisons. Since the last survey of research activity in the nonprofit sector occurred in 1996 and 1997, interest from the community has grown significantly in recent years. Thus, it is important that a new survey of nonprofit R&D be fielded to update current national estimates for the nonprofit sector.

NCSES recently concluded a pilot test of the new Nonprofit Research Activities Survey (NPRA) with 3,640 nonprofit organizations. Using the lessons learned from the pilot, NCSES now plans to conduct a full survey.

Use of the information: The primary purpose of this survey is to collect nationally representative data on nonprofit research spending and funding.

The nonprofit sector is one of four major sectors that perform and/or fund research and development (R&D) in the U.S. Historically, the National Science Foundation (NSF) has combined this sector's data with the business, government, and higher education sectors' data to estimate total national R&D expenditures via the annual National Patterns of R&D Resources report. The other three sectors are surveyed annually; however, it has been 20 years since NSF last collected R&D data from nonprofit organizations.

The full NPRA survey will collect R&D and other related data from U.S. nonprofit organizations. This survey will collect the following:

• Total amount spent on R&D activities within nonprofit organizations,

• Number of employees and R&D employees,

• Sources of funds for R&D expenditures,

• Expenditures by field of R&D (biological and health sciences, engineering, physical sciences, social sciences, etc.),

• Expenditures by type of R&D (basic research, applied research, or experimental development),

• Total amount of R&D funding provided to entities outside the nonprofit organization,

• Types of recipients receiving R&D funding, and

• Funding by field of R&D (biological and health sciences, engineering, physical sciences, social sciences, etc.).

Expected respondents: The sample will be 6,500 nonprofit organizations. The target population for the NPRA Survey includes all NPOs categorized by the Internal Revenue Service (IRS) as 501(c)(3) public charities, 501(c)(3) private foundations, and other exempt organizations [e.g., 501(c)(1), 501(c)(2)]. To increase the efficiency of sampling organizations performing or funding research, organizations that are highly unlikely to be conducting research activities or already included in the other NCSES R&D surveys will be removed. In addition, organizations that do not meet a minimum size threshold, based on assets for private foundations and expenses for public charities, will be eliminated. The sample will be allocated to obtain a minimum of 800 completed responses from performers and 800 from funders.

Estimate of burden: We expect a response rate of 60%. Based on the responses to the pilot survey, we estimate the survey to require 4 hours to complete if the respondent both funds and performs research. The response time for nonprofit organizations that do not conduct or fund research should be under 20 minutes. We estimate that of the 6,500 organizations surveyed, no more than 1,300 will identify as performer or funders and submit a full survey response. Therefore our estimate of burden for the survey is 6,067 hours (5,200 hours for the 1,300 estimated performers and funders; 867 hours for the remaining 2,600 organizations estimated to complete the survey).

Dated: May 1, 2017.
Suzanne H. Plimpton,
Reports Clearance Officer, National Science Foundation.

[FR Doc. 2017-09044 Filed 5-3-17; 8:45 am]

BILLING CODE 7555-01-P